FEDERAL COMMUNICATIONS COMMISSION

47 CFR Part 73

[DA 05-2338; MB Docket No. 04-408, RM-11107]

Radio Broadcasting Services; Hawley and Munday, TX

AGENCY: Federal Communications Commission.

ACTION: Final rule.

SUMMARY: At the request of Charles Crawford, the Audio Division allots Channel 269A at Hawley, Texas, as that community's first local aural transmission service. To accommodate the proposed Hawley allotment, Petitioner proposes to modify the site for vacant Channel 270C1 at Munday, Texas. See 69 FR 67882, November 22, 2004. Channel 269A is allotted at Hawley at Petitioner's requested site 9.8 kilometers (6.1 miles) southeast of the community at coordinates 32-32-30 NL and 99-45-00 WL. The site for Channel 270C1 at Munday can be modified to a site 34 kilometers (21.1 miles) north of the community at coordinates 33-44-53 NL and 99-42-14 WL.

DATES: Effective October 11, 2005.

ADDRESSES: Federal Communications Commission, 445 Twelfth Street, SW., Washington, DC 20554.

FOR FURTHER INFORMATION CONTACT: Victoria M. McCauley, Media Bureau, (202) 418-2180.

SUPPLEMENTARY INFORMATION: This is a synopsis of the Commission's Report and Order, MB Docket No. 04-408 adopted August 24, 2005, and released August 26, 2005. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC, 20054, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

47 CFR part 73 is amended as follows:

PART 73—RADIO BROADCAST SERVICES

1. The authority citation for part 73 continues to read as follows:

Authority: 47 U.S.C. 154, 303, 334 and 336.

§ 73.202 [Amended]

2. Section 73.202(b), the Table of FM Allotments under Section 73.202(b), the Table of FM Allotments under Texas is amended by adding Hawley, Channel 269A.

Federal Communications Commission.
John A. Karousos,
Assistant Chief, Audio Division, Media Bureau.

[FR Doc. 05-18028 Filed 9-13-05; 8:45 am]

BILLING CODE 6712-01-P